DEPARTMENT OF AGRICULTURE

Grain Inspection, Packers and Stockyards Administration

Amendment to the Designation of North Dakota Grain Inspection

AGENCY: Grain Inspection, Packers and Stockyards Administration, USDA.

ACTION: Notice.

SUMMARY: North Dakota Grain Inspection Service, Inc.'s (North Dakota) geographical territory is amended to include the area previously designated to Columbus Grain Inspection, Inc. (Columbus). North Dakota purchased Columbus effective July 11, 2016, and met the requirements specified in the agency's General Regulations. The designation of North Dakota is from January 1, 2016, to December 31, 2020.

DATES: Effective July 11, 2016.

FOR FURTHER INFORMATION CONTACT: Sharon Lathrop, 816-891-0415 or FGIS.QACD@usda.gov.

SUPPLEMENTARY INFORMATION: The United States Grain Standards Act (USGSA) authorizes the Secretary to designate a qualified applicant to provide official services in a specified area after determining that the applicant is better able than any other applicant to provide such official services 7 U.S.C. 79(f). Under 7 U.S.C. 79(g), designations of official agencies are effective for no longer than five years, unless terminated by the Secretary, and may be renewed according to the criteria and procedures prescribed in 7 U.S.C. 79(f).

North Dakota Designation

Pursuant to 7 U.S.C. 79(f)(2), the following geographic area, in the States of Illinois, Indiana, Michigan, Minnesota, North Dakota, and Ohio, is assigned to this official agency.

In Illinois

Bounded on the East by the eastern Cumberland County line; the eastern Jasper County line south to State Route 33; State Route 33 east-southeast to the Indiana-Illinois State line; the Indiana-Illinois State line south to the southern Gallatin County line; Bounded on the South by the southern Gallatin, Saline, and Williamson County lines; the southern Jackson County line west to U.S. Route 51; U.S. Route 51 north to State Route 13; State Route 13 northwest to State Route 149; State Route 149 west to State Route 3; State Route 3 northwest to State Route 51; State Route 51 south to the Mississippi River; and Bounded on the West by the Mississippi River north to the northern Calhoun County line; Bounded on the North by the northern and eastern Calhoun County lines; the northern and eastern Jersey County lines; the northern Madison County line; the western Montgomery County line north to a point on this line that intersects with a straight line, from the junction of State Route 111 and the northern Macoupin County line to the junction of Interstate 55 and State Route 16 (in Montgomery County); from this point southeast along the straight line to the junction of Interstate 55 and State Route 16; State Route 16 east-northeast to a point approximately 1 mile northeast of Irving; a straight line from this point to the northern Fayette County line; the northern Fayette, Effingham, and Cumberland County lines.

In Indiana

Bartholomew, Blackford, Boone, Brown, Carroll (south of State Route 25), Cass, Clinton, Delaware, Fayette, Fulton (bounded on east by eastern Fulton County line south to State Route 19; State Route 19 south to State Route 114; State Route 114 southeast to eastern Fulton County line), Grant, Hamilton, Hancock, Hendricks, Henry, Howard, Jay, Johnson, Madison, Marion, Miami, Monroe, Montgomery, Morgan, Randolph, Richmond, Rush (north of State Route 244), Shelby, Tipton, Union, and Wayne Counties.

In Michigan

Bounded on the West by State Route 127 at the Michigan-Ohio State line north to State Route 50; Bounded on the north by State Route 50 at State Route 127 east to the Michigan State line; the Michigan state line south to the Michigan-Ohio State line.

In Minnesota

Koochiching, St. Louis, Lake, Cook, Itasca, Norman, Mahnomen, Hubbard, Cass, Clay, Becker, Wadena, Crow Wing, Aitkin, Carlton, Wilkin, and Otter Tail Counties, except those export port locations within the State, which are serviced by GIPSA.

In North Dakota

Bounded on the North by the northern Steele County line from State Route 32 east; the northern Steele and Trail County lines east to the North Dakota State line; Bounded on the East by the eastern North Dakota State line; Bounded on the South by the southern North Dakota State line west to State Route 1; and Bounded on the West by State Route 1 north to Interstate 94; Interstate 94 east to the Soo Railroad line; the Soo Railroad line northwest to State Route 1; State Route 1 north to State Route 200; State Route 200 east to State Route 45; State Route 45 north to State Route 32; State Route 32 north.

In Ohio

The northern Ohio State line east to the to the Ohio Pennsylvania State line; Bounded on the East by the Ohio-Pennsylvania State line south to the Ohio River; Bounded on the South by the Ohio River south-southwest to the western Scioto County line; and Bounded on the West by the western Scioto County line north to State Route 73; State Route 73 northwest to U.S. Route 22; U.S. Route 22 west to U.S. Route 68; U.S. Route 68 north to Clark County; the northern Clark County line west to Valley Pike Road; Valley Pike Road north to State Route 560; State Route 560 north to U.S. 36; U.S. 36 west to eastern Miami County Line; eastern Miami County Line to Northern Miami County Line; Northern Miami County Line west to Interstate 75; Interstate 75 north to State Route 47; State Route 47 northeast to U.S. Route 68 (including all of Sidney, Ohio); U.S. Route 68 north to the southern Hancock County line; the southern Hancock County line west to the western Hancock, Wood and Lucus County lines north to the Michigan-Ohio State line; the Michigan-Ohio State line west to State Route 127; plus all of Darke County.

North Dakota's assigned geographic area does not include the export port locations inside North Dakota's area which are serviced by GIPSA. The following grain elevators are not part of this geographic area assignment and are assigned to: Titus Grain Inspection, Inc.: The Andersons, Delphi, Carroll County; Frick Services, Inc., Leiters Ford, Fulton County; and Cargill, Inc., Linden, Montgomery County, Indiana.

The agency certifies that North Dakota has met all the criteria for designation as delineated in 7 CFR 800.196(f)(2).

Authority: 7 U.S.C. 71-87k.

Susan B. Keith,
Acting Administrator, Grain Inspection, Packers and Stockyards Administration.

[FR Doc. 2016-25612 Filed 10-26-16; 8:45 am]

BILLING CODE 3410-KD-P